DEPARTMENT OF HEALTH AND HUMAN SERVICES

Substance Abuse and Mental Health Services Administration

Fiscal Year (FY) 2009 Funding Opportunity

AGENCY: Substance Abuse and Mental Health Services Administration, HHS.

ACTION: Notice of intent to award a Single Source Grant to the Tarzana Treatment Center, Reseda, CA.

SUMMARY: This notice is to inform the public that the Substance Abuse and Mental Health Services Administration (SAMHSA) intends to award approximately $509,000 (total costs) per year for up to two years to the Tarzana Treatment Center, Reseda, CA. This is not a formal request for applications. Assistance will be provided only to the Tarzana Treatment Center based on the receipt of a satisfactory application that is approved by an independent review group.

Funding Opportunity Title: SM-09-015.

Catalog of Federal Domestic Assistance (CFDA) Number: 93.243.

Authority: Sections 520A of the Public Health Service Act, as amended.

Justification: Only the Tarzana Treatment Center, Reseda, CA is eligible to apply. The Substance Abuse and Mental Health Services Administration (SAMHSA) is seeking to award a single source grant to the Tarzana Treatment Center. Competition is limited to the Tarzana Treatment Center because it is presently funded through the Mental Health HIV Services Collaborative program. Several factors support the justification of a single source award to the intended applicant in order to maintain the integrity and consistency of the services of this grant activity. The grant award was for three years instead of five years because of an error in the application process. The current grant ends September 30, 2009. The Tarzana Treatment Center is in year-three of a process of providing treatment for over 100 individuals with HIV and co-occurring mental health disorders at various stages of recovery. The program's cross-site evaluation is planned as a five-year effort that includes all grantees and combines with SAMHSA's National Outcome Measures (NOMS) for site and program analysis.

FOR FURTHER INFORMATION CONTACT: Shelly Hara, Substance Abuse and Mental Health Services Administration, 1 Choke Cherry Road, Room 8-1081, Rockville, MD 20857; telephone: (240) 276-2321; E-mail: shelly.hara@samhsa.hhs.gov.

Toian Vaughn,
SAMHSA Committee Management Officer.

[FR Doc. E9-4160 Filed 2-26-09; 8:45 am]

BILLING CODE 4162-20-P